DEPARTMENT OF LABOR

Employment and Training Administration

[TA-W-38,624]

Johnstown America Corp. Franklin and Shell Plants Johnstown, Pennsylvania; Dismissal of Application for Reconsideration

Pursuant to 29 CFR 90.18(C) an application for administrative reconsideration was filed with the Director of the Division of Trade Adjustment Assistance for workers at Johnstown America Corp., Franklin and Shell Plants, Johnstown, Pennsylvania. The application contained no new substantial information which would bear importantly on the Department's determination. Therefore, dismissal of the application was issued.

TA-W-38,624; Johnstown America Corp.

Franklin and Shell Plants, Johnstown, Pennsylvania (October 23, 2001)

Signed at Washington, DC, this 26th day of October 2001.
Edward A. Tomchick,
Director, Division of Trade Adjustment Assistance.

[FR Doc. 01-27791 Filed 11-5-01; 8:45 am]

BILLING CODE 4510-30-M